POSTAL RATE COMMISSION

Sunshine Act; Briefing on Commission Functions and Procedures

AGENCY: Postal Rate Commission.

ACTION: Notice of briefing.

SUMMARY: The Commission will serve as a general host for a visiting delegation from PostEurop on October 11 through 14, 2005. The agenda includes briefings on Commission operations, functions and activities, as well as related issues, such as postal reform, efficient component pricing, negotiated service agreements, worksharing, and distinctions between domestic and European postal models. It also includes Postal Service briefings, a postal facility tour, meetings with members of Congress and their staff, and discussions with mailers.

DATES: October 11 through 14, 2005.

ADDRESSES: Postal Rate Commission, 901 New York Avenue, NW., Suite 200, Washington, DC 20268-001.

FOR FURTHER INFORMATION CONTACT: Stephen L. Sharfman, General Counsel, 202-789-6818.

Dated: September 22, 2005.
Steven W. Williams,
Secretary.

[FR Doc. 05-19311 Filed 9-22-05; 4:41 pm]

BILLING CODE 7710-FW-M